DEPARTMENT OF TRANSPORTATION

Coast Guard

33 CFR Part 165

[CGD01-01-175]

RIN 2115-AA97

Safety and Security Zones; Naval Force Protection, Bath Iron Works, Kennebec River, Bath, Maine

AGENCY: Coast Guard, DOT.

ACTION: Temporary final rule.

SUMMARY: The Coast Guard establishes temporary safety and security zones in the waters of the Kennebec River extending out to 400-feet into the Kennebec River from the Bath Iron Works facility, Bath, Maine. This action is necessary to ensure public safety and prevent sabotage or terrorist acts. Entry into these safety and security zones is prohibited unless authorized by the Captain of the Port.

DATES: This section is effective from 12:01 a.m. September 21, 2001 to 11:59 p.m. December 31, 2001.

ADDRESSES: Documents as indicated in this preamble are available for inspection or copying at Marine Safety Office Portland, Maine, 103 Commercial Street, Portland, Maine between 8 a.m. and 4 p.m., Monday through Friday, except Federal Holidays.

FOR FURTHER INFORMATION CONTACT: Lieutenant (Junior Grade) W. W. Gough, Chief, Ports and Waterways Safety Branch, Port Operations Department, Captain of the Port, Portland, Maine at (207) 780-3251.

SUPPLEMENTARY INFORMATION:

Regulatory History

As authorized by 5 U.S.C. 553, a notice of proposed rulemaking (NPRM) was not published for this regulation. Under 5 U.S.C 553(b)(B), the Coast Guard finds that good cause exists for not publishing a NPRM and for making this rule effective less than 30 days after publication in the Federal Register. Due to the catastrophic nature and extent of damage realized from the aircraft crashes into the World Trade Center towers, this rulemaking is urgently necessary to protect the national security interests of the United States against future potential terrorist strikes against governmental targets. Any delay in the establishment and enforcement of this regulation's effective date would be unnecessary and contrary to public interest and national security since immediate action is needed to protect the United States Naval vessels being built and repaired at the Bath facility. Any delay in implementing this regulation would be contrary to the public interest since immediate action is needed to safeguard the Naval vessels moored at the Bath Iron Works, Naval personnel, the maritime community and the public from sabotage or other subversive acts, accidents, or other causes of a similar nature.

Background and Purpose

A safety zone was established by the Captain of the Port, Portland, Maine, on June 15, 2001, and published in the Federal Register (66 FR 34367-34369). That safety zone prohibited entry into all waters of the Kennebec River within a 400-foot radius of Bath Iron Works, Bath, Maine from 7 a.m. June 16, 2001 through 12 p.m. September 30, 2001. On September 11, 2001, two commercial aircraft were hijacked from Logan Airport in Boston, Massachusetts and flown into the World Trade Center in New York, New York inflicting catastrophic human casualties and property damage. A similar attack was conducted on the Pentagon on the same day. National security and intelligence officials warn that future terrorist attacks against civilian targets may be anticipated. Due to these heightened security concerns, safety and security zones are prudent for an additional period of time, and for a larger area than previously covered. The safety and security zones will occur from 12:01 a.m. September 21, 2001 to 11:59 p.m. December 31, 2001 at Bath Iron Works, Bath, Maine. This regulation establishes safety and security zones having identical boundaries in the waters of the Kennebec River extending out to 400 feet from Bath Iron Works facility. This safety and security zone is required to protect the Naval personnel, facilities, the public and the surrounding area from sabotage, terrorism, subversive acts, accidents, or other events of a similar nature.

Regulatory Evaluation

This temporary final rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this proposal to be so minimal that a full Regulatory Evaluation under paragraph 10e of the regulatory policies and procedures of DOT is unnecessary for the following reasons: this safety and security zone involves only a portion of the Kennebec River, allowing vessels to safely navigate around the safety and security zone without delay.

Small Entities

Under the Regulatory Flexibility Act (5 U.S.C. 601 et seq.), the Coast Guard must consider whether this proposal will have a significant economic impact on a substantial number of small entities. “Small entities” may include (1) small businesses and not-for-profit organizations that are independently owned and operated and are not dominant in their fields and (2) governmental jurisdictions with populations of less than 50,000.

For the reasons addressed under the Regulatory Evaluation above, the Coast Guard expects the impact of this regulation to be minimal and certifies under section 605(b) of the Regulatory Flexibility Act (5 U.S.C. 601 et seq.) that this final rule will not have a significant economic impact on a substantial number of small entities.

Collection of Information

This rule contains no collection of information requirements under the Paperwork Reduction Act of 1995 (44 U.S.C. 3501 et seq.).

Federalism

The Coast Guard has analyzed this rule under the principles and criteria contained in Executive Order 13132 and have determined that this rule does not have sufficient federalism implications for Federalism under that order.

Unfunded Mandates Reform Act

The Unfunded Mandates Reform Act of 1995 (2 U.S.C. 1531-1538) governs the issuance of Federal regulations that require unfunded mandates. An Unfunded Mandate is a regulation that requires a state, local or tribal government or the private sector to incur costs without the Federal government's having first provided the funds to pay those costs. This rule will not impose an Unfunded Mandate.

Taking of Private Property

This rule will not affect a taking of private property or otherwise have taking implications under Executive Order 12630, Governmental Actions and Interference with Constitutionally Protected Property Rights.

Civil Justice Reform

This rule meets applicable standards in section 3(a) and 3(b)(2) of Executive Order 12988, Civil Justice Reform, to minimize litigation, eliminate ambiguity and reduce burden.

Protection of Children

The Coast Guard has analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard has considered the environmental impact of this regulation and concluded that, under Figure 2-1, paragraph 34(g) of Commandant Instruction M16475.1D, this rule is categorically excluded from further environmental documentation.

Energy Effects

The Coast Guard has analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, Waterways.

Regulation

For the reasons set out in the preamble, the Coast Guard amends 33 CFR part 165 as follows:

1. The authority citation for part 165 continues to read as follows:

Authority: 33 U.S.C. 1231; 50 U.S.C. 191, 33 CFR 1.05-1(g), 6.04-1, 6.04-6, 160.5; 49 CFR 1.46.

2. Add temporary § 165.T01-175 to read as follows:

§ 165.T01-175 Naval Force Protection, at Bath Iron Works, Kennebec River, Bath, Maine.

(a) Location. The following is a safety and security zone: all waters off of Bath Iron Works facility, Bath, Maine extending 400-feet out into the Kennebec River.

(b) Effective date. This section is effective from 12:01 a.m. September 21, 2001 to 11:59 p.m. December 31, 2001.

(c) Regulations. (1) The general regulations contained in § 165.23, § 165.33 and the regulations specifically relating to safety zones and security zones in §§ 165.20 and 165.30 of this part apply.

(2) All persons and vessels shall comply with the instructions of the Coast Guard Captain of the Port or the designated on scene personnel. Upon being hailed by designated personnel via siren, radio, flashing light, bullhorn or other means, the operator of the vessel shall proceed as directed.

(3) No person may swim upon or below the surface of the water within the boundaries of the safety and security zone unless previously authorized by the Captain of the Port, Portland or his authorized patrol representative.

Dated: September 21, 2001.
M.P. O'Malley,
Commander, Coast Guard, Captain of the Port.

[FR Doc. 01-24536 Filed 10-1-01; 8:45 am]

BILLING CODE 4910-15-U